DEPARTMENT OF LABOR

Occupational Safety and Health Administration

29 CFR Parts 1910, 1915, and 1926

[Docket No. OSHA-H005C-2006-0870]

RIN 1218-AB76

Occupational Exposure to Beryllium: Proposed Delay of Effective Date

AGENCY: Occupational Safety and Health Administration, Department of Labor.

ACTION: Proposed delay of effective date.

SUMMARY: In accordance with the Presidential directive as expressed in the memorandum of January 20, 2017, from the Assistant to the President and Chief of Staff, entitled “Regulatory Freeze Pending Review,” this action proposes, following a brief 10-day comment period, to further temporarily delay until May 20, 2017 the effective date of the rule entitled Occupational Exposure to Beryllium, published in the Federal Register on January 9, 2017 (82 FR 2470). The current effective date is March 21, 2017. This additional delay will allow OSHA officials the opportunity for further review and consideration of the new regulations.

DATES: Written comments must be submitted (postmarked, sent, or received) by March 13, 2017.

ADDRESSES: Written comments. You may submit comments, identified by Docket No. OSHA-H005C-2006-0870, by any of the following methods:

Electronically: You may submit comments and attachments electronically at http://www.regulations.gov, which is the Federal e-Rulemaking Portal. Follow the instructions on-line for making electronic submissions. When uploading multiple attachments into Regulations.gov, please number all of your attachments because www.Regulations.gov will not automatically number the attachments. This will be very useful in identifying all attachments in the beryllium rule. For example, Attachment 1—title of your document, Attachment 2—title of your document, Attachment 3—title of your document, etc. Specific instructions on uploading all documents are found in the Facts, Answer, Questions portion and the commenter check list on Regulations.gov Web page.

Fax: If your submissions, including attachments, are not longer than 10 pages, you may fax them to the OSHA Docket Office at (202) 693-1648.

Mail, hand delivery, express mail, messenger, or courier service: You may submit your comments to the OSHA Docket Office, Docket No. OSHA-H005C-2006-0870, Room N-3653, U.S. Department of Labor, 200 Constitution Avenue NW., Washington, DC 20210; telephone (202) 693-2350 (TTY (887) 889-5627). OSHA's Docket Office accepts deliveries (hand deliveries, express mail, and messenger/courier service) from 10 a.m. to 3 p.m. e.t., weekdays.

Instructions: All submissions must include the Agency name and the docket number for this rulemaking (Docket No. OSHA-H005C-2006-0870). All comments, including any personal information you provide, are placed in the public docket without change and may be made available online at http://www.regulations.gov. Therefore, OSHA cautions you about submitting personal information such as Social Security numbers and birthdates.

Docket: To read or download comments and materials submitted in response to this Federal Register document, go to Docket No. OSHA-H005C-2006-0870 at http://www.regulations.gov, or to the OSHA Docket Office at the address above. All comments and submissions are listed in the http://www.regulations.gov index; however, some information (e.g., copyrighted material) is not publicly available to read or download through that Web site. All comments and submissions are available for inspection at the OSHA Docket Office.

Electronic copies of this Federal Register document are available at http://www.regulations.gov. Copies also are available from the OSHA Office of Publications, Room N-3101, U.S. Department of Labor, 200 Constitution Avenue NW., Washington, DC 20210; telephone (202) 693-1888. This document, as well as news releases and other relevant information, is also available at OSHA's Web site at http://www.osha.gov.

FOR FURTHER INFORMATION CONTACT: Frank Meilinger, Director, Office of Communications, Room N-3647, OSHA, U.S. Department of Labor, 200 Constitution Avenue NW., Washington, DC 20210; telephone (202) 693-1999; email meilinger.francis2@dol.gov.

SUPPLEMENTARY INFORMATION: OSHA published a final rule entitled Occupational Exposure to Beryllium on January 9, 2017 (82 FR 2470). On February 1, 2017, OSHA published a document in the Federal Register delaying the effective date of this rule from March 10, 2017 until March 21, 2017 (82 FR 8901 (February 1, 2017)). OSHA based this extension on the Presidential directive as expressed in the memorandum of January 20, 2017, from the Assistant to the President and Chief of Staff, entitled “Regulatory Freeze Pending Review” (82 FR 8346 (January 24, 2017)) (“Memorandum”). The Memorandum directed the heads of Executive Departments and Agencies to temporarily postpone for sixty days from the date of the memorandum the effective dates of all regulations that had been published in the Federal Register but had not yet taken effect. The Memorandum also noted certain exceptions that do not apply here. OSHA therefore delayed the effective date for the rule entitled “Occupational Exposure to Beryllium” to March 21, 2017.

The Memorandum also directed agencies to consider further delaying the effective date for regulations beyond that 60-day period. After further review, OSHA has preliminarily determined that it is appropriate to further delay the effective date of this rule, for the purpose of further reviewing questions of fact, law, and policy raised therein. Therefore, in accordance with the Memorandum, OSHA proposes to further delay the effective date for the rule entitled “Occupational Exposure to Beryllium” to May 20, 2017. The proposed extension of the effective date will not affect the compliance dates of the beryllium rule.

OSHA seeks comment by March 13, 2017 on its proposal to extend the effective date by 60 days to May 20, 2017.

Signed at Washington, DC, on February 24, 2017.
Dorothy Dougherty,
Deputy Assistant Secretary of Labor for Occupational Safety and Health.

[FR Doc. 2017-04040 Filed 3-1-17; 8:45 am]

BILLING CODE 4510-26-P